DEPARTMENT OF TRANSPORTATION

Office of the Secretary of Transportation

Adjustment to Rail Passenger Transportation Liability Cap

AGENCY: Office of the Secretary of Transportation (OST), Department of Transportation (DOT).

ACTION: Notice.

SUMMARY: This notice details the adjustment made to the rail passenger transportation liability cap under section 11415 of the Fixing America's Surface Transportation (FAST) Act (December 7, 2015). As a result of the FAST Act, the rail passenger transportation liability cap is raised from $200,000,000 to $294,278,983.

DATES: This adjustment will go into effect 30 days after the date of publication of this notice.

FOR FURTHER INFORMATION CONTACT: For further information regarding this notice, please contact Stephanie Lawrence, Office of Policy and Planning, Federal Railroad Administration, 1200 New Jersey Avenue SE., Mail Stop 20, Washington, DC 20590; Email: stephanie.lawrence@dot.gov; Phone: (202) 493-1376; Fax: (202) 493-6333.

SUPPLEMENTARY INFORMATION: Notice: The Department of Transportation is publishing the inflation adjusted index factors for the rail passenger transportation liability cap under 49 U.S.C. 28103(a)(2), as directed by section 11415 of the FAST Act. The index methodology ensures that the allowable awards to all rail passengers, against all defendants, for all claims, including claims for punitive damages, arising from a single accident or incident is based on current dollars and is adjusted for inflation from the $200,000,000 cap that went into effect on December 2, 1997.

Under the FAST Act, the index is adjusted to the date of enactment of the FAST Act using the Bureau of Labor Statistics (BLS) Consumer Price Index-All Urban Consumers. The index is based on the month of the original liability cap and the last full month prior to the enactment of the FAST Act on December 7, 2015 (December 1997 to November 2015, the last available month of the monthly index). Thereafter, the FAST Act directs the Secretary to update the liability cap every fifth year after the date of the FAST Act's enactment. The table below shows the Index and inflator FRA used to calculate an inflation adjusted amount of $294,278,983.

Passenger Liability Cap Inflation Adjusted Index and Inflation Factor
Month | Index | Inflator | Liability cap
December 1997 | 161.30 | 1.00 | $200,000,000
November 2015 | 237.34 | 1.47 | 294,278,983

The adjustment of the rail passenger transportation liability cap to $294,278,983 shall be effective 30 days after the date of publication of this notice.

Anthony R. Foxx,
Secretary of Transportation.

[FR Doc. 2016-00301 Filed 1-8-16; 8:45 am]

BILLING CODE 4910-06-P